DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims (the Court) is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2019, through May 31, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: June 27, 2019.
George Sigounas,
Administrator.

List of Petitions Filed

1. Shane Bowers, Waupun, Wisconsin, Court of Federal Claims No: 19-0644V

2. Lynn Acton, New Haven, Connecticut, Court of Federal Claims No: 19-0647V

3. Michele Louise Gray, Lancaster, California, Court of Federal Claims No: 19-0648V

4. Shelley Haynes on behalf of E. H., Mountain City, Tennessee, Court of Federal Claims No: 19-0651V

5. John Hardy Bauer, Twin Falls, Idaho, Court of Federal Claims No: 19-0652V

6. Delinda Smith, Stuttgart, Arkansas, Court of Federal Claims No: 19-0653V

7. Harold Kaplan, Marlton, New Jersey, Court of Federal Claims No: 19-0654V

8. Gladys Wright, Minneapolis, Minnesota, Court of Federal Claims No: 19-0659V

9. Shannon McTernan, Columbia, Missouri, Court of Federal Claims No: 19-0662V

10. Larry Logan, Mustang, Oklahoma, Court of Federal Claims No: 19-0666V

11. Geoff Mead on behalf of M. M., Nanuet, New York, Court of Federal Claims No: 19-0667V

12. Ingrid Minge, Columbia, Missouri, Court of Federal Claims No: 19-0668V

13. Tara Blaise, Huntington Station, New York, Court of Federal Claims No: 19-0670V

14. Rebekah R. Linnett, Astoria, Oregon, Court of Federal Claims No: 19-0672V

15. Gina Binkley Kotch, New York, New York, Court of Federal Claims No: 19-0675V

16. Gary Marco, Bedford, Ohio, Court of Federal Claims No: 19-0677V

17. Branch R. Lew, Fort Wayne, Indiana, Court of Federal Claims No: 19-0679V

18. Felix Willis, Waupun, Wisconsin, Court of Federal Claims No: 19-0680V

19. Rheanan Hoffman, Milwaukee, Wisconsin, Court of Federal Claims No: 19-0681V

20. Lucinda Laird, Salem, Oregon, Court of Federal Claims No: 19-0682V

21. Keith Franco, Smyrna, Georgia, Court of Federal Claims No: 19-0684V

22. Judith Markey, Boston, Massachusetts, Court of Federal Claims No: 19-0687V

23. Kelly Stevens, Clackamas, Oregon, Court of Federal Claims No: 19-0689V

24. Nicholas Catone and Marjorie Catone on behalf of N. C., Deceased, Brick, New Jersey, Court of Federal Claims No: 19-0690V

25. Carolyn Clark, Newark, Ohio, Court of Federal Claims No: 19-0692V

26. Winnifer Kinsey, Slidell, Louisiana, Court of Federal Claims No: 19-0695V

27. Jennifer Dorso, San Antonio, Texas, Court of Federal Claims No: 19-0699V

28. Ernest Ghent, Reno, Nevada, Court of Federal Claims No: 19-0700V

29. Antonio Perez, San Antonio, Texas, Court of Federal Claims No: 19-0702V

30. Laurie Tennessen, Monticello, Minnesota, Court of Federal Claims No: 19-0703V

31. Michael Lucero, Santa Fe, New Mexico, Court of Federal Claims No: 19-0704V

32. Patrick W. Wilson, San Rafael, California, Court of Federal Claims No: 19-0705V

33. L Ruther, Deceased, Orlando, Florida, Court of Federal Claims No: 19-0706V

34. Steven S. Floyd, Memphis, Tennessee, Court of Federal Claims No: 19-0707V

35. William Jenne, Greenlawn, New York, Court of Federal Claims No: 19-0708V

36. John Barry Thomas, Telford, Pennsylvania, Court of Federal Claims No: 19-0709V

37. Christopher Cartwright, Denville, New Jersey, Court of Federal Claims No: 19-0712V

38. Helen Leonard, Ypsilanti, Michigan, Court of Federal Claims No: 19-0714V

39. Anne M. Schubert on behalf of R. S., Elk Grove, California, Court of Federal Claims No: 19-0715V

40. Colleen M. McNerney, Rochester, New York, Court of Federal Claims No: 19-0717V

41. Sherri Cheek, Louisville, Kentucky, Court of Federal Claims No: 19-0718V

42. Geri Meyer, Clarksville, Arkansas, Court of Federal Claims No: 19-0719V

43. Carole Debreczenyi, Maywood, Illinois, Court of Federal Claims No: 19-0721V

44. Victoria Gauvin, Burlington, Vermont, Court of Federal Claims No: 19-0722V

45. Sherly Smith on behalf of Chauncey Smith, Jr., Miami Gardens, Florida, Court of Federal Claims No: 19-0723V

46. Sanders Robinson, Montgomery, Alabama, Court of Federal Claims No: 19-0725V

47. Frank Gibbs, Washington, District of Columbia, Court of Federal Claims No: 19-0726V

48. Fabray Turner, Boston, Massachusetts, Court of Federal Claims No: 19-0727V

49. Ricardo Rodriguez, Farmers Branch, Texas, Court of Federal Claims No: 19-0729V

50. Tammy Robinson, Boston, Massachusetts, Court of Federal Claims No: 19-0730V

51. Michelle Gonzales, Tehachapi, California, Court of Federal Claims No: 19-0731V

52. Christopher Crowley, Dorchester, Massachusetts, Court of Federal Claims No: 19-0732V

53. Michael Wilkinson, Edina, Minnesota, Court of Federal Claims No: 19-0733V

54. Kathryn Larson, Boston, Massachusetts, Court of Federal Claims No: 19-0734V

55. Liang Zhao on behalf of G. L., Davenport, Iowa, Court of Federal Claims No: 19-0735V

56. James Remmes, Charlestown, Massachusetts, Court of Federal Claims No: 19-0736V

57. Edward Carroll, New York, New York, Court of Federal Claims No: 19-0737V

58. Sheila Amati, Monongahela, Pennsylvania, Court of Federal Claims No: 19-0738V

59. Michael Moses on behalf of P. M., Milwaukee, Wisconsin, Court of Federal Claims No: 19-0739V

60. Tina Coppersmith, Glen Falls, New York, Court of Federal Claims No: 19-0741V

61. Kelsey Metsker, Shawnee Mission, Kansas, Court of Federal Claims No: 19-0743V

62. Patricia Taylor on behalf of A. S., San Antonio, Texas, Court of Federal Claims No: 19-0744V

63. Renee Smith, Luling, Louisiana, Court of Federal Claims No: 19-0745V

64. Virginia Van Zandt, San Francisco, California, Court of Federal Claims No: 19-0746V

65. John Heath and Marie Louise Heath on behalf of J. N. H., San Mateo, California, Court of Federal Claims No: 19-0749V

66. Linda Goggins, Pottstown, Pennsylvania, Court of Federal Claims No: 19-0751V

67. Sally Stokes, Washington, District of Columbia, Court of Federal Claims No: 19-0752V

68. Lance Basting, Eau Claire, Wisconsin, Court of Federal Claims No: 19-0753V

69. Wendy Jacobs, Mankato, Minnesota, Court of Federal Claims No: 19-0761V

70. Mark Santia, Erie, Pennsylvania, Court of Federal Claims No: 19-0762V

71. Young Kwan Jun, Brodheadsville, Pennsylvania, Court of Federal Claims No: 19-0764V

72. John F. Olson, Mankato, Minnesota, Court of Federal Claims No: 19-0768V

73. Yaniris Gonzalez, Brooklyn, New York, Court of Federal Claims No: 19-0769V

74. Chelsea Delvecchio, Tucson, Arizona, Court of Federal Claims No: 19-0772V

75. Beth Wyatt, Sedro-Woolley, Washington, Court of Federal Claims No: 19-0773V

76. Shawn Steiger, Boise, Idaho, Court of Federal Claims No: 19-0775V

77. Kathi Leopard, Greenwood, South Carolina, Court of Federal Claims No: 19-0776V

78. Ines Chicos on behalf of L.C., Sunnyside, New York, Court of Federal Claims No: 19-0778V

79. Linda Bergstrom, Park Ridge, Illinois, Court of Federal Claims No: 19-0784V

80. Natalie A. Woodson, Staten Island, New York, Court of Federal Claims No: 19-0785V

81. Charley Boon, El Cajon, California, Court of Federal Claims No: 19-0788V

82. Arthur Cordisco, Boston, Massachusetts, Court of Federal Claims No: 19-0789V

83. Carol Culwell, Bryan, Texas, Court of Federal Claims No: 19-0790V

84. James G. Strouse, Greensboro, North Carolina, Court of Federal Claims No: 19-0793V

85. Stephanie Hetrick and Jonathan Hetrick on behalf of J H, Ruston, Louisiana, Court of Federal Claims No: 19-0795V

86. Cynthia Paul, Sarasota, Florida, Court of Federal Claims No: 19-0797V

87. Jeffrey Scott Cantrell, Greensboro, North Carolina, Court of Federal Claims No: 19-0799V

88. Kimble Lehman, Paducah, Kentucky, Court of Federal Claims No: 19-0802V

89. Jeremy Williams, Washington, District of Columbia, Court of Federal Claims No: 19-0803V

90. Michael Thomas, Washington, District of Columbia, Court of Federal Claims No: 19-0804V

91. Keith Ratay, Washington, District of Columbia, Court of Federal Claims No: 19-0805V

92. Scott Weaver, Washington, District of Columbia, Court of Federal Claims No: 19-0806V

[FR Doc. 2019-14124 Filed 7-2-19; 8:45 am]

BILLING CODE 4165-15-P